INTERNATIONAL TRADE COMMISSION

[Inv. No. 337-TA-1240]

Certain UMTS and LTE Cellular Communication Modules and Products Containing the Same; Institution of Investigation

AGENCY: U.S. International Trade Commission.

ACTION: Notice.

SUMMARY: Notice is hereby given that a complaint was filed with the U.S. International Trade Commission on December 17, 2020, under section 337 of the Tariff Act of 1930, as amended, on behalf of Koninklijke Philips N.V. of the Netherlands and Philips RS North America LLC (f/k/a Respironics, Inc.) of Pittsburgh, Pennsylvania. A supplement to the complaint was filed January 6, 2021. The complaint, as supplemented, alleges violations of section 337 based upon the importation into the United States, the sale for importation, and the sale within the United States after importation of certain UMTS and LTE cellular communication modules and products containing the same by reason of infringement of certain claims of U.S. Patent No. 7,831,271 (“the '271 patent”); U.S. Patent No. 8,199,711 (“the '711 patent”); U.S. Patent No. 7,554,943 (“the '943 patent”); and U.S. Patent No. 7,944,935 (“the '935 patent”). The complaint further alleges that an industry in the United States exists and/or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on January 19, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-4, 9-12 and 17 of the '935 patent; claims 12 and 15 of the '943 patent; claims 9 and 12 of the '711 patent; claims 1-8 of the '271 patent; and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “UMTS and LTE cellular communication modules of Thales (Gemalto/Cinterion), Telit and Quectel, and machine to machine (M2M) cellular communication devices (i.e., gateways, routers, trackers, monitors, readers, controllers, and M2M cellular connected sensor products) that incorporate such UMTS and LTE cellular communication modules of Thales (Gemalto/Cinterion), Telit and Quectel;”

(3) Pursuant to Commission Rule 210.50(b)(1), 19 CFR 201.50(b)(1), the presiding administrative law judge shall take evidence or other information and hear arguments from the parties and other interested persons with respect to the public interest in this investigation, as appropriate, and provide the Commission with findings of facts and a recommended determination on this issue, which shall be limited to the statutory public interest factors set forth in 19 U.S.C. 1337(d)(1), (f)(1), and (g)(1);

(4) For the purpose of the investigation so instituted, the following are hereby named as parties upon which this notice of investigation shall be served:

(a) The complainants are:

Koninklijke Philips N.V., High Tech Campus 52, 5656 AG Eindhoven, Netherlands

Philips RS North America LLC, 6501 Living Place, Pittsburgh, PA 15206

(b) The respondents are the following entities alleged to be in violation of section 337, and are the parties upon which the complaint is to be served:

Thales DIS AIS USA, LLC, 310 120th Avenue NE, Unit A/100, Bellevue, Washington, 98005

Thales DIS AIS Deutschland GmbH, Werinherstraße 81, München, Bayern 81541, Germany

Thales USA, Inc., 2733 Crystal Drive, Suite 120, Arlington, VA 22202

Thales S.A., Tour Carpe Diem, 31 Place Place des Corolles—CS 20001, 92098 Paris La Defense Cedex, Paris, France

Telit Wireless Solutions, Inc., 5425 Page Road, Suite 120, Durham, North Carolina 27703-7009

Telit Communications PLC, 78 Cannon Street, Cannon Place, London, EC4N 6AF, United Kingdom

Quectel Wireless Solutions Co., Ltd., Building 5, Shanghai Business Park, Phase III (Area B), No.1016 Tianlin Road, Minhang District, Shanghai 200233 China

CalAmp Corp., 15635 Alton Parkway, Suite 250, Irvine, California 92618

Xirgo Technologies, LLC, 188 Camino Ruiz, 2nd Floor, Camarillo, California 93012

Laird Connectivity, Inc., 50 South Main Street, Akron, Ohio 44308

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 19, 2021.
William Bishop,
Supervisory Hearings and Information Officer.

[FR Doc. 2021-01604 Filed 1-26-21; 8:45 am]

BILLING CODE 7020-02-P